DEPARTMENT OF THE INTERIOR

Bureau of Land Management

[ID-957-1430-BJ]

Idaho: Filing of Plats of Survey

AGENCY: Bureau of Land Management, Interior.

ACTION: Notice of filing of plats of surveys.

FOR FURTHER INFORMATION CONTACT: Bureau of Land Management, 1387 South Vinnell Way, Boise, Idaho, 83709-1657.

SUMMARY: The Bureau of Land Management (BLM) has officially filed the plats of survey of the lands described below in the BLM Idaho State Office, Boise, Idaho, effective 9 a.m., on the dates specified.

The plat, constituting the entire survey record of the dependent resurvey of a portion of the subdivisional lines, a portion of the 1878 meanders of the left bank of the Snake River in section 25, and a portion of former Tract 38, and a metes-and-bounds survey of Lot 18, section 25, in T. 4 N., R. 40 E., Boise Meridian, Idaho, was accepted May 28, 2003.

The supplemental plat was prepared to amend lots in section 6, T. 23 N., R. 22 E., Boise Meridian, Idaho, and was accepted June 13, 2003.

The plats representing the dependent resurvey of portions of the east boundary (Boise Meridian), south boundary (First Standard Parallel North), north boundary, and the subdivisional lines, and the subdivision of sections 2, 3, 10, 11, 12, 13, 14, 15, 21, 23, 26, 27, 28, 33, 34, and 35, in T. 6 N., R. 1 W., Boise Meridian, Idaho, were accepted June 26, 2003.

The plat representing the dependent resurvey of portions of the east and north boundaries, subdivisional lines, and of Homestead Entry Survey Nos. 203 and 206, and the subdivision of sections 1, 2, and 3, in T. 14 S., R. 24 E., Boise Meridian, Idaho, was accepted June 27, 2003.

SUPPLEMENTARY INFORMATION: This survey was executed at the request of the Bureau of Land Management to meet certain administrative needs of the Bureau of Indian Affairs. The lands we surveyed are:

The plat representing the dependent resurvey of a portion of the subdivisional lines and subdivision of section 16, and the further subdivision of section 16, in T. 4 S., R. 34 E., Boise Meridian, Idaho, was accepted June 26, 2003.

This survey was executed at the request of the Bureau of Land Management to meet certain administrative needs of the U.S.D.A. Forest Service. The lands we surveyed are:

The plats, constituting the entire survey record of the dependent resurvey of a portion of the east boundary and a portion of the subdivisional lines, designated to restore the corners in their true original locations, and the subdivision of sections 1, 11, 12, and 13, in T. 19 N., R. 2 E., Boise Meridian, Idaho, was accepted June 30, 2003.

Dated: July 2, 2003.
Harry K. Smith,
Chief Cadastral Surveyor for Idaho.

[FR Doc. 03-17310 Filed 7-9-03; 8:45 am]

BILLING CODE 4310-GG-P